DEPARTMENT OF HEALTH AND HUMAN SERVICES

Substance Abuse and Mental Health Services Administration

Procedures for Resubmitting Revised Applications in Response to Program Announcements

AGENCY: Substance Abuse and Mental Health Services Administration, HHS.

ACTION: Notice of procedures for resubmitting revised applications in response to SAMHSA program announcements.

SUMMARY: The Substance Abuse and Mental Health Services Administration (SAMHSA), HHS issues Program Announcements (PAs) when inviting applications for consideration on an ongoing basis. Beginning with the May 10, 2001 receipt date, the following procedures are to be followed for all revised and resubmitted applications that are submitted in response to ongoing SAMHSA Program Announcements. Current SAMHSA Program Announcements are listed at the end of this Notice. However, this process will apply equally to any new PA published after the date of this Notice.

SUPPLEMENTARY INFORMATION: When soliciting applications for its grant programs, the Substance Abuse and Mental Health Services Administration and its three Centers, the Center for Substance Abuse Treatment (CSAT), the Center for Mental Health Services (CMHS), and the Center for Substance Abuse Prevention (CSAP) publish either Program Announcements (PAs) for ongoing receipt dates or Guidance for Applicants (GFAs) for single receipt dates. Because of the ongoing receipt dates, applicants applying under Program Announcements may revise and resubmit their applications for a later receipt date if an application that was reviewed by a SAMHSA review group was not successful in being funded.

SAMHSA is providing requirements on revised and resubmitted applications in the interest of efficiency and fairness. If an application, in response to a PA, is a revision of one previously submitted and reviewed, the following instructions must be followed. Applicants may wish to consult with the appropriate SAMHSA program staff named in the PA before rewriting and resubmitting the application.

The instructions set out below are to be followed for revised and resubmitted applications.

1. Resubmitted applications which are essentially identical to prior ones will not be accepted for review and will be returned to the applicant. Revisions in resubmitted applications must be significant and be readily identifiable as explained below.

2. In an “Introduction” section that precedes the Table of Contents and does not exceed two (2) pages, identify the original application by number and indicate the receipt date for which it was previously submitted. If there is a different project director named on the revised application, note this as well.

3. Summarize in the “Introduction” any substantive additions, deletions, and changes that have been made to the application. Using the summary statement, which provides feedback on the review of the application, include responses to questions, criticisms or weaknesses communicated. Incorporate any work that affects the proposed project that occurred since the prior version of the application was submitted. The “Introduction” will not be counted against the total page limit of the application.

4. Within the text of the application, identify the changes either by appropriate bracketing, indenting, or changing of typography. DO NOT indicate changes by underlining or shading.

A revised application will be returned if an “Introduction” is not included and/or substantial revisions are not apparent. The revised and resubmitted application will be reviewed in its entirety. Review committee members will be instructed to review all aspects of the revised application, not just areas that have been changed. Acceptance of a revised application automatically withdraws the prior version and the score assigned to it.

Whenever possible and appropriate, the revised application will be reviewed by the same committee that reviewed the previous application. The Director, Division of Extramural Activities, Policy and Review, SAMHSA will make the final assignment to a review committee. Revised applications will be reviewed in accordance with the same policies and procedures as all other applications contemporaneously reviewed by the committee.

Current SAMHSA PA(s) are:

Center for Substance Abuse Treatment

PA 99-050 Comprehensive Community Treatment Program for the Development of New and Useful Knowledge—(Short Title: Community Treatment Program)

PA 00-001 Grants to Expand Substance Abuse Treatment Capacity in Targeted Areas of Need—(Short Title: Targeted Capacity Expansion)

PA 00-050 Community Action Grants for Service Systems Change—(Short Title: CSAT Action Grant Program)

Center for Mental Health Services

PA 00-003 Community Grants for Service Systems Change— (Short Title: Community Action Grants)

SAMHSA Cross-Agency

PA 98-090 Substance Abuse and Mental Health Services Administration Knowledge Dissemination Conference Grants—(Short Title: SAMHSA Conference Grants)

Dated: March 2, 2001.
Richard Kopanda,
Executive Officer, Substance Abuse and Mental Health Services Administration.

[FR Doc. 01-5957 Filed 3-9-01; 8:45 am]

BILLING CODE 4162-20-P